DEPARTMENT OF TRANSPORTATION

Federal Aviation Administration

[Docket No. FAA-2002-12504] Security Considerations for the Flightdeck on Foreign Operated Transport Category Airplanes

AGENCY: Federal Aviation Administration (FAA), DOT

ACTION: Notice of public meeting.

SUMMARY: This notice announces a public meeting to be held to solicit comments and information on a final rule that the FAA published June 21, 2002, on security considerations for the flightdeck on foreign operated transport category airplanes. The final rule requires the same level of safety for flightdeck protection for foreign air carriers operating to, from, and over the U.S. as required for U.S. air carriers. This notice announces the date, time, location and procedures for the public meeting.

DATES: The meeting will be held on Tuesday, July 30, 2002, beginning at 9 a.m. Persons unable to attend the meeting are invited to provide written comments to the DOT Docket Management System, on or before August 20, 2002.

ADDRESSES: The public meeting will be held at the National Transportation Safety Board Conference Center, 429 L'Enfant Plaza, SW., Washington, DC 20594. Persons unable to attend the meeting may mail their comments in duplicate to: U.S. Department of Transportation Dockets, Docket No. FAA-2002-12504, 400 Seventh Street, SW, Plaza Level, Room 401, Washington, DC 20590. Comments also may be sent electronically to the Dockets Management System (DMS) at the following Internet address: http://dms.dot.gov/ at anytime. Commenters who wish to file comments electronically, should follow the instructions on the DMS web site. Comments may be filed and/or examined at the U.S. Department of Transportation Dockets, Plaza Level, Room 401 between 10 a.m. and 5 p.m. weekdays except Federal holidays.

FOR FURTHER INFORMATION CONTACT: Requests to present a statement at the meeting or questions regarding the logistics of the meeting should be directed to Effie Upshaw, Federal Aviation Administration, Office of Rulemaking, ARM-209, 800 Independence Avenue, SW., Washington, DC 20591; telephone (202) 267-7626; fax (2020 267-5075; e-mail: effie.upshaw@faa.gov.

Questions concerning the applicability of the part 129 requirements should be directed to Michael E. Daniel, International Liaison Staff, AFS-50, Flight Standards Service, Federal Aviation Administration, 800 Independence Avenue, SW., Washington, DC 20591; telephone (202) 385-4510; fax (202) 385-4561; e-mail: mike.e.daniel@faa.gov.

Background

On September 11, 2001, the United States experienced terrorist attacks when aircraft were commandeered and used as weapons. These actions demonstrated that there is a need to improve the design, operational, and procedural security of the flightdeck.

In response, the FAA amended Title 14 Code of Federal Regulation part 121 to require that certain U.S. air carriers install reinforced flightdeck doors that provide intrusion resistance and ballistic penetration resistance by April 9, 2003 (Amendment 121-288, 67 FR 2881, January 15, 2002). As discussed in the preamble to Amendment 121-288, the FAA expected that foreign operators conducting service to and from the United States under part 129 would have flightdeck security measures commensurate with those of U.S. carriers.

On June 21, 2002, the FAA issued a final rule entitled “Security Considerations for the Flightdeck on Foreign Operated Transport Category Airplanes” (67 FR 42450). The final rule requires improved flightdeck security and other operational and procedures changes to prevent unauthorized access to the flightdeck on passenger-carrying aircraft and some cargo aircraft operated by foreign carriers under the provisions of part 129. The FAA is holding this public meeting to give the public an additional opportunity to comment on the final rule.

Participation at the Meeting

The FAA should receive requests from persons who wish to present oral statements at the meeting no later than July 25, 2002. Such requests should be submitted to Effie Upshaw, as listed above in the section titled FOR FURTHER INFORMATION CONTACT, and should include a written summary of oral remarks to be presented and an estimate of time needed for the presentation. An agenda of speakers will be available at the meeting. The names of those individuals who request to present oral statements after the date specified above may not appear on the written agenda. To accommodate as many speakers as possible, the amount of time allocated to each speaker may be less than the amount of time requested. Persons requiring audiovisual equipment should notify the FAA when requesting to be placed on the agenda.

Public Meeting Procedures

The FAA will use the following procedures to facilitate the meeting:

(1) There will be no admission fee or other charge to attend or to participate in the meeting. The meeting will be open to all persons who are scheduled to present statements or who register between 8:30 a.m. and 9 a.m. on the day of the meeting. While the FAA will make every effort to accommodate all persons wishing to participate, admission will be subject to availability of space in the meeting room. The meeting may adjourn early if scheduled speakers complete their statements in less time than is scheduled for the meeting.

(2) An individual, whether speaking in a personal or a representative capacity on behalf of an organization, may be limited to a 10-minute statement. If possible, we will notify the speaker if additional time is available.

(3) The FAA will try to accommodate all speakers. If the available time does not permit this, speakers generally will be scheduled on a first-come-first-served basis. However, the FAA reserves the right to exclude some speakers if necessary to present a balance of viewpoints and issues.

(4) Sign and oral interpretation can be made available at the meeting, as well as an assistive listening device, if requested 10 calendar days before the meeting.

(5) Representatives of the FAA will preside over the meeting. A panel of FAA personnel involved in this rulemaking will be present.

(6) The meeting will be recorded by a court reporter. A transcript of the meeting and any material accepted by the FAA representatives during the meeting will be included in the public docket. Any person who is interested in purchasing a copy of the transcript should contact the court reporter directly. Additional transcript purchase information will be available at the meeting.

(7) The FAA will review and consider all material presented by participants at the meeting. Position papers or material presenting views or arguments related to the rule may be accepted at the discretion of the presiding officer and subsequently placed in the public docket. The FAA requests that persons participating in the meeting provide nine copies of all materials to be presented for distribution to the FAA representatives; other copies may be provided to the audience at the discretion of the participant.

(8) Statements made by FAA representatives are intended to facilitate discussion of the issues or to clarify issues. Any statement made during the meeting by an FAA representative is not intended to be, and should not be construed as, a position of the FAA.

(9) The meeting is designed to solicit public views and gather additional information on the rule. Therefore, the meeting will be conducted in an informal and non-adversarial manner. No individual will be subject to cross-examination by any other participant; however, FAA representatives may ask questions to clarify a statement and to ensure a complete and accurate record.

(10) As this issue is closely related to rulemaking adopted for domestic U.S. operations (which is also an area of high public interest), the FAA anticipates that the domestic rulemaking may be brought up during the meeting. To the extent that such discussions are relevant to the subject of flightdeck security on foreign operated airplanes, they will be allowed to proceed. However, discussions that are not relevant to the purpose of the meeting will be ruled out of order and the meeting Chair will move on to the next discussion item.

Issued in Washington, DC on July 9, 2002.
Tony Fazio,
Director, Office of Rulemaking.

[FR Doc. 02-17738 Filed 7-12-02; 8:45 am]

BILLING CODE 4910-13-M